DEPARTMENT OF TRANSPORTATION

National Highway Traffic Safety Administration

[Docket No. NHTSA-2022-0064; Notice 1]

Nissan North America, Inc., Receipt of Petition for Decision of Inconsequential Noncompliance

AGENCY: National Highway Traffic Safety Administration (NHTSA), Department of Transportation (DOT).

ACTION: Receipt of petition.

SUMMARY: Nissan North America, Inc., (Nissan), has determined that certain model year (MY) 2022 Nissan Altima motor vehicles do not fully comply with Federal Motor Vehicle Safety Standard (FMVSS) No. 110, Tire Selection and Rims and Motor Home/Recreation Vehicle Trailer Load Carrying Capacity Information for Motor Vehicles with a GVWR of 4,536 kilograms (10,000 pounds) or less. Nissan filed an original noncompliance report dated June 14, 2022. Nissan petitioned NHTSA on July 7, 2022, for a decision that the subject noncompliance is inconsequential as it relates to motor vehicle safety. This document announces receipt of Nissan's petition.

DATES: Send comments on or before February 16, 2023.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Ahmad Barnes, General Engineer, NHTSA, Office of Vehicle Safety Compliance, (202) 366-7236.

SUPPLEMENTARY INFORMATION:

I. Overview: Nissan determined that certain MY 2022 Nissan Altima Midnight Edition 2WD motor vehicles do not fully comply with paragraph S4.3(d) of FMVSS No. 110, Tire Selection and Rims and Motor Home/Recreation Vehicle Trailer Load Carrying Capacity Information for Motor Vehicles with a GVWR of 4,536 kilograms (10,000 pounds) or less. (49 CFR 571.110).

Nissan filed an original noncompliance report dated June 14, 2022, pursuant to 49 CFR part 573, Defect and Noncompliance Responsibility and Reports. Nissan petitioned NHTSA on July 7, 2022, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of Nissan's petition is published under 49 U.S.C. 30118 and 30120 and does not represent any agency decision or another exercise of judgment concerning the merits of the petition.

II. Vehicles Involved: Approximately 4,537 MY 2022 Nissan Altima Midnight Edition 2WD motor vehicles, manufactured between November 3, 2021, and April 4, 2022, are potentially involved.

III. Noncompliance: Nissan explains that the subject vehicles are equipped with a spare tire that does not match the spare tire size designation identified on the tire placard. Specifically, the subject vehicles were equipped with the all-wheel drive (AWD) T135/90D16 sized spare tire instead of the two-wheel drive (2WD) T135/70D16 sized spare tire as intended and stated on the vehicle placard. Therefore, the vehicle placard does not state the correct spare tire size as required by paragraph S4.3(d) of FMVSS No. 110.

IV. Rule Requirements: Paragraph S4.3(d) of FMVSS No. 110 includes the requirements relevant to this petition. Each vehicle, except for a trailer or incomplete vehicle, must show the tire size designation on a placard permanently affixed to the driver's side B-pillar and indicated by the headings “size” or “original tire size” or “original size,” and “spare tire” or “spare,” for the tires installed at the time of the first purchase for purposes other than resale. For full size spare tires, the statement “see above” may, at the manufacturer's option replace the tire size designation. If no spare tire is provided, the word “none” must replace the tire size designation.

V. Summary of Nissan's Petition: The following views and arguments presented in this section, “V. Summary of Nissan's Petition,” are the views and arguments provided by Nissan. They have not been evaluated by the Agency and do not reflect the views of the Agency. Nissan describes the subject noncompliance and contends that the noncompliance is inconsequential as it relates to motor vehicle safety.

Nissan explains that the subject vehicles were equipped with an AWD tire instead of the intended 2WD that is identified on the vehicle placard with the tire size designation “T135/70D16.” However, Nissan claims “that the AWD tire was an acceptable fitment for the subject vehicles and the tire pressures are the same for both spare tire sizes (AWD and 2WD).” According to Nissan, overloading would not occur if the tire pressure stated on the vehicle placard is applied to the spare tire, and other than the subject noncompliance, the tires equipped on the subject vehicles meet the requirements provided in FMVSS No. 110.

Nissan says that the tire inflation pressure stated on the vehicle placard is correct for both the spare tire equipped on the subject vehicle (T135/90D16) and the spare tire size designation stated on the vehicle placard (T135/70D16). Therefore, Nissan believes the subject noncompliance “is unlikely to result in overloading because when checking the placard to determine inflation pressure for the spare tire, the customer will find the correct tire pressure value on the label.”

Nissan states that both tire sizes can be used on the subject vehicles because the AWD (T135/90D16) tire equipped on the subject vehicle has a higher load rating (102) than the 2WD (T135/70D16) tire indicated on the vehicle placard (100). Nissan also states that the purpose of FMVSS No. 110 is to prevent tire overloading which would not occur due to the subject noncompliance because both the equipped AWD tire and the intended 2WD tire can be used on the subject vehicle.

Nissan states that correct information for both the AWD and 2WD spare tire sizes is readily available to the consumer in the owner's manual provided with the vehicle. Furthermore, Nissan says that its belief that the subject noncompliance is inconsequential to motor vehicle safety is supported by field data. Nissan also states that it is not aware of any customer complaints, accidents, or injuries regarding the subject noncompliance.

NHTSA has previously granted petitions for inconsequentiality for noncompliances Nissan believes to be similar to the subject noncompliance. Nissan refers to a petition submitted by Mercedes-Benz USA, LLC,¹ in which the tire placard incorrectly identifies the spare tire size due to a labeling error. In that case, NHTSA found the noncompliance to be inconsequential because (1) both the tire equipped on those vehicles and the tire indicated by the tire placard could be used and are appropriate for the affected vehicle's maximum loaded weight conditions, (2) in the event that a consumer inadvertently used the labeled inflation pressure to inflate the originally equipped spare tire, the tire load rating would be sufficient for the maximum loaded vehicle weight, and (3) the owner's manual for the affected vehicles describes both spare tire sizes which can be used by the consumer to ensure either tire size is appropriate for use.

¹ Mercedes-Benz USA, LLC, Grant of Petition for Decision of Inconsequential Noncompliance, 82 FR 5640 (January 18, 2017).

Nissan concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Nissan no longer controlled at the time it determined that the noncompliance existed. However, any decision on this petition does not relieve vehicle distributors and dealers of the prohibitions on the sale, offer for sale, or introduction or delivery for introduction into interstate commerce of the noncompliant vehicles under their control after Nissan notified them that the subject noncompliance existed.

(Authority: 49 U.S.C. 30118, 30120: delegations of authority at 49 CFR 1.95 and 501.8.)

Otto G. Matheke III,
Director, Office of Vehicle Safety Compliance.

[FR Doc. 2023-00684 Filed 1-13-23; 8:45 am]

BILLING CODE 4910-59-P